DEPARTMENT OF THE INTERIOR

Data Collection Available for Public Comments and Recommendations

ACTION: Notice and request for comments.

SUMMARY: In compliance with the Paperwork Reduction Act of 1995, the U.S. Department of the Interior announces that is has forwarded a Paperwork Reduction Act submission to OMB to request public comments on this submission. Comments are invited on: (a) Whether the proposed collection of information is necessary for the proper performance of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DOI is below parity with the Relevant Civilian Labor Force representation for many mission critical occupations. The Department's Strategic Human Capital Management Plan identifies the job skills that will be needed in our current and future workforce. The job skills we will need are dispersed throughout our eight bureaus and include, among others, making visitors welcome to various facilities, such as parks and refuges, processing permits for a wide variety of uses of the public lands, collecting royalties for minerals extracted from the public lands, rounding-up and adopting-out wild horses and burros found in the west, protecting archaeological and cultural resources of the public lands, and enforcing criminal laws of the United states. As a result of this broad spectrum of duties and services, the Department touches the lives of most Americans.

DATES: OMB has up to 60 days to approve or disapprove the information collection, but may respond after 30 days: therefore, public comments should be submitted within 30 days of publication of this notice in order to assure their maximum consideration.

FOR FURTHER INFORMATION CONTACT: Samuel Bowser, (202) 208-5549, Assistant Director for Workforce Diversity and Evaluation. The collection instrument is also available on the internet at: http://www.doi.gov/diversity/doc/di_1935.pdf. Respondents may also obtain hard copies of the DI 1935 form and the Department of the Interior's submission to OMB.

Brief Description: In order to determine if there are barriers in our recruitment and selection processes, we must track the demographic groups that apply for our jobs. There is no other statistically valid method to make these determinations, and no source of this information other than directly from applicants. The data collected is not provided to selecting officials and plays no part in the merit staffing or the selection processes. The data collected will be used in summary form to determine trends covering the demographic make-up of applicant pools and job selections within a given occupation or organizational group. The records of those applicants not selected are destroyed in accordance with the Department's records management process.

SUPPLEMENTARY INFORMATION: Title: U.S. Department of the Interior Applicant Background Survey.

Type of Request: Extension of collection approved under OMB Control No.: 1091-0001.

Description of Respondents: Individuals seeking employment.

Annual Responses: 560,000.

Burden: 46,480 hours total (5 minutes per response).

ADDRESSES: Written comments and recommendations on the proposed information collection should be addressed to: Attention: Desk Officer for the Department of the Interior, Office of Information and Regulatory Affairs, Office of Management and Budget, 725 17th Street, NW., Washington, DC 20503. In addition, please provide a copy of your comments to Samuel Bowser, at the contact address.

J. Michael Trujillo,
Deputy Assistant Secretary for Human Resources and Workforce Diversity.

[FR Doc. 03-4749 Filed 2-27-03; 8:45 am]

BILLING CODE 4310-10-M